DEPARTMENT OF ENERGY

Federal Energy Regulatory Commission

Notice of Application for Non-Project Use of Project Lands and Waters and Soliciting Comments, Motions To Intervene, and Protests

October 8, 2003.

Take notice that the following hydroelectric application has been filed with the Commission and is available for public inspection:

a. Type of Application: Non-Project Use of Project Lands and Waters.

b. Project No.: 199-203.

c. Date Filed: August 11, 2003.

d. Applicant: South Carolina Public Service Authority.

e. Name of Project: Santee-Cooper Project.

f. Location: Santee and Cooper Rivers (Lake Marion and Lake Moultrie) in Berkeley, Calhoun, Clarendon, Orangeburg, and Sumter Counties, South Carolina. The project occupies federal lands in the Francis Marion National Forest. The proposed action would involve project lands and waters located at Lake Marion.

g. Filed pursuant to: Federal Power Act, 16 U.S.C. 791(a)-825(r) and 799 and 801.

h. Applicant Contact: Mr. G. Denton Lindsay, Jr., Santee Cooper Property Management Division, One Riverwood Drive, P.O. Box 2946101, Moncks Corner, SC 29461-4003, (843) 761-8000.

i. FERC Contact: Any questions on this notice should be addressed to Diana Shannon, (202) 502-8887, or e-mail address: diana.shannon@ferc.gov.

j. Deadline for filing motions to intervene, protests, comments: November 10, 2003.

The Commission's Rules of Practice and Procedure require all interveners filing a document with the Commission to serve a copy of that document on each person in the official service list for the project. Further, if an intervener files comments or documents with the Commission relating to the merits of an issue that may affect the responsibilities of a particular resource agency, they must also serve a copy of the documents on that resource agency.

k. Description of Proposed Action: The Applicant seeks approval to use project lands and waters at Lake Marion for the Lake Marion Regional Water System Water Supply Project (Water Project). The applicant proposes to construct an intake structure and pump station in Orangeburg County, South Carolina. Raw water would be withdrawn from Lake Marion and delivered to a proposed water treatment plant, to be located on non-project lands approximately 1,000 feet from the intake. The treatment plant will have an initial capacity of 8 million gallons/day (MGD) and a maximum of up to 12 MGD. The licensee states that lake inflow is considered adequate to withstand the demand of the water treatment facility. The proposed structures (both on project and non-project lands) will remain the applicant's, therefore, no conveyance of project property rights is necessary. The applicant intends to sell the potable water to the Lake Marion Water Agency, which includes the City of Santee, the Town of Elloree, the City of Manning, the Town of St. George, and the Town of Holly Hill. The Water Project is divided into 5 smaller, independent projects. The initial project, referred to as the Santee Reach, includes the water treatment facility, elevated tank, and waterline to provide water to Santee and Orangeburg County. Other projects (including the Elloree, Holly Hill, St. George and Manning Reaches) will be phased in, based upon customer needs and funding availability with the last project anticipated being completed by March 2006.

l. The filing is available for review at the Commission in the Public Reference Room or may be viewed on the Commission's Web site at http://www.ferc.gov/ using the “eLibrary” link. Enter the docket number excluding the last three digits in the docket number field to access the document. For assistance, call toll-free 1-866-208-3676 or e-mail FERCOnlineSupport@ferc.gov. For TTY, call (202) 502-8659. A copy is also available for inspection and reproduction at the address in item h.

m. Individuals desiring to be included on the Commission's mailing list should so indicate by writing to the Secretary of the Commission.

n. Comments, Protests, or Motions to Intervene: Anyone may submit comments, a protest, or a motion to intervene in accordance with the requirements of Rules and Practice and Procedure 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, or “MOTION TO INTERVENE”, as applicable, and the project number (199-203) on any comments or motions filed. Comments, protests, and interventions may be filed electronically via the internet in lieu of paper. See 18 CFR 385.2001(a)(1)(iii) and the instructions on the Commission's Web site under the “eFiling” link. The Commission strongly encourages e-filings. All documents should be filed with: The Secretary, Federal Energy Regulatory Commission, 888 First Street, NE., Washington, DC 20426. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representative.

Magalie R. Salas,
Secretary.

[FR Doc. E3-00048 Filed 10-15-03; 8:45 am]

BILLING CODE 6717-01-P